DEPARTMENT OF TRANSPORTATION

Intelligent Transportation Systems Program Advisory Committee; Notice of Meeting

AGENCY: ITS Joint Program Office, Office of the Assistant Secretary for Research and Technology, U.S. Department of Transportation.

ACTION: Notice.

The Intelligent Transportation Systems (ITS) Program Advisory Committee (ITSPAC) will hold a meeting by Web conference on July 23, 2014, from 2:00 p.m. to 3:00 p.m. (EDT).

The ITSPAC, established under Section 5305 of Public Law 109-59, Safe, Accountable, Flexible, Efficient Transportation Equity Act: A Legacy for Users, August 10, 2005, and re-established under Section 53003 of Public Law 112-141, Moving Ahead for Progress in the 21st Century, July 6, 2012, was created to advise the Secretary of Transportation on all matters relating to the study, development, and implementation of intelligent transportation systems. Through its sponsor, the ITS Joint Program Office (JPO), the ITSPAC makes recommendations to the Secretary regarding ITS Program needs, objectives, plans, approaches, content, and progress.

The following is a summary of the meeting tentative agenda: (1) Call to Order and Roll Call, (2) Welcome Remarks, (3) Ethics Review, (4) Overview of Advisory Committee, (5) Overview of ITS Joint Program Office, and (6) Summary and Next Steps.

The Web conference will be open to the public, but limited conference lines will be available on a first-come, first-served basis. Members of the public who wish to participate in the Web conference must request approval from Mr. Stephen Glasscock, the Committee Designated Federal Official, at (202) 366-9126, not later than July 16, 2014. You must also request Mr. Glasscock's approval to present oral statements during the Web conference.

Questions about the agenda or written comments may be submitted by U.S. Mail to: U.S. Department of Transportation, Office of the Assistant Secretary for Research and Technology, ITS Joint Program Office, Attention: Stephen Glasscock, 1200 New Jersey Avenue SE., HOIT, Washington, DC 20590 or faxed to (202) 493-2027. The ITS JPO requests that written comments be submitted not later than July 16, 2014.

Notice of this meeting is provided in accordance with the Federal Advisory Committee Act and the General Services Administration regulations (41 CFR Part 102-3) covering management of Federal advisory committees.

Issued in Washington, DC, on the 1st day of July 2014.
John Augustine,
Managing Director, ITS Joint Program Office.

[FR Doc. 2014-15897 Filed 7-7-14; 8:45 am]

BILLING CODE 4910-09-P